DEPARTMENT OF AGRICULTURE

National Institute of Food and Agriculture

RIN 0524-AA43

Solicitation of Input From Stakeholders Regarding the Veterinary Medicine Loan Repayment Program (VMLRP)

AGENCY: National Institute of Food and Agriculture, USDA.

ACTION: Notice of request for stakeholder input.

SUMMARY: The National Institute of Food and Agriculture (NIFA) is soliciting stakeholder input on the administration of the Veterinary Medicine Loan Repayment Program (VMLRP) authorized under section 1415A of the National Agricultural Research, Extension, and Teaching Policy Act of 1977 (7 U.S.C. 3151a). The purpose of this program is for the U.S. Department of Agriculture (USDA) to enter into agreements with veterinarians under which the veterinarians agree to provide, for a specific period of time as identified in the agreement, veterinary services in veterinarian shortage situations. As part of the stakeholder input process, NIFA is inviting comments regarding the current procedures and processes in place for the VMLRP. Input collected will be used to modify and improve processes for subsequent calls of shortage situation nominations and request for applications.

DATES: Written comments are invited from interested individuals and organizations. All comments must be received by close of business on December 10, 2012, to be considered.

ADDRESSES: You may submit comments, identified by NIFA-2013-0001, by any of the following methods:

Federal eRulemaking Portal: http://www.regulations.gov. Follow the instructions for submitting comments.

Email: vmlrp@nifa.usda.gov. Include NIFA-2013-0001 in the subject line of the message.

Fax: 202-720-6486.

Mail: Paper, disk or CD-ROM submissions should be submitted to VMLRP, Policy and Oversight Division, National Institute of Food and Agriculture, U.S. Department of Agriculture; STOP 2299, 1400 Independence Avenue SW., Washington, DC 20250-2299.

Hand Delivery/Courier: VMLRP; Policy and Oversight Division, National Institute of Food and Agriculture, U.S. Department of Agriculture, Room 2308, Waterfront Centre, 800 9th Street SW., Washington, DC 20024.

Instructions: All submissions received must include the agency name and NIFA-2013-0001. All comments received will be posted without change to http://www.regulations.gov, including any personal information provided.

FOR FURTHER INFORMATION CONTACT: Matthew Lockhart, Senior Policy Specialist; National Institute of Food and Agriculture; U.S. Department of Agriculture; STOP 2299; 1400 Independence Avenue SW.; Washington, DC 20250-2299; Voice: (202) 559-5088; Email: mlockhart@nifa.usda.gov.

SUPPLEMENTARY INFORMATION:

Background and Purpose

The VMLRP helps qualified veterinarians offset a significant portion of the debt incurred in pursuit of their veterinary medicine degrees in return for their service in certain high-priority veterinary shortage situations. NIFA will enter into educational loan repayment agreements with veterinarians who agree to provide veterinary services in veterinarian shortage situations for a determined period of time. NIFA may repay up to $25,000 of a veterinarian's student loan debt per year if the veterinarian commits to at least three years to provide veterinary services in a designated veterinary shortage area. Loan repayment benefits are limited to payments of the principal and interest on government and commercial loans received for the attendance at an accredited college of veterinary medicine that result in a degree of Doctor of Veterinary Medicine or the equivalent.

In December 2003, the National Veterinary Medical Service Act (NVMSA) was passed into law adding section 1415A to the National Agricultural Research, Extension, and Teaching Policy Act of 1977 (NARETPA). This law established a new Veterinary Medicine Loan Repayment Program (7 U.S.C. 3151a) authorizing the Secretary of Agriculture (secretary) to carry out a program of entering into agreements with veterinarians under which they agree to provide veterinary services in veterinarian shortage situations.

On October 1, 2009, CSREES became the NIFA as mandated by the Food, Conservation, and Energy Act of 2008, section 7511(f). Accordingly, the authority to administer the VMLRP transferred from CSREES to NIFA.

In FY 2010, VMLRP announced its first funding opportunity and received 257 applications from which NIFA issued 53 VMLRP awards totaling $5,185,970. In FY 2011, VMLRP opened its second funding opportunity and received 159 applications from which NIFA issued 75 VMLRP awards totaling $7,250,970. In FY 2012, VMLRP opened its third annual application cycle and received 139 applications from which 47 VMLRP award offers totaling $4,644,000 have been made. Each award offer is contingent upon submission of a signed contract, thereby executing the service agreement between the veterinarian and NIFA. Funding for future years is based on annual appropriations and balances, if any, remaining from prior years.

Section 7105 of the FCEA amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian, to consider the ability of USDA to maximize the number of agreements from the amounts appropriated and to provide an incentive to serve in veterinary service shortage areas with the greatest need. This section also provides that loan repayments may consist of payments of the principal and interest on government and commercial loans received by the individual for the attendance of the individual at an accredited college of veterinary medicine resulting in a degree of Doctor of Veterinary Medicine or the equivalent. This program is not authorized to provide repayments for any government or commercial loans incurred during the pursuit of another degree, such as an associate or bachelor degree. Loans eligible for repayment include educational loans made for one or more of the following: Loans for tuition expenses; other reasonable educational expenses, including fees, books, and laboratory expenses, incurred by the individual; and reasonable living expenses as determined by the Secretary. In addition, the Secretary is directed to make such additional payments to participants as the Secretary determines appropriate for the purpose of providing reimbursements to participants for individual tax liability resulting from participation in this program. The Secretary delegated the authority to carry out this program to NIFA.

NIFA is inviting stakeholder comments to use in improving the administration of the VMLRP. Written comments and suggestions on issues may be submitted to the NIFA Docket Clerk at the address above.

Done in Washington, DC, this 26th day of October 2012.
Sonny Ramaswamy,
Director, National Institute of Food and Agriculture.

[FR Doc. 2012-27396 Filed 11-8-12; 8:45 am]

BILLING CODE 3410-22-P